SMALL BUSINESS ADMINISTRATION

Region 1—Maine District Advisory Council; Public Meeting

The U.S. Small Business Administration Maine District Advisory Council, located in the geographical area of Augusta, Maine will hold a public meeting on Wednesday, February 21, 2007, starting at 10 a.m. The meeting will be held at Mainely Trusses, Inc., 7 Truss Lane, Fairfield, ME.

The purpose of the meeting is to discuss such matters as may be presented by members, staff of the U.S. Small Business Administration, or others present.

For further information, write or call Mary McAleney, District Director, U.S. Small Business Administration, Maine District Office, 68 Sewall Street, Room 512, Augusta, Maine 04330, telephone (207) 622-8386; fax (207) 622-8277.

Matthew Teague,
Committee Management Officer.

[FR Doc. E7-2226 Filed 2-9-07; 8:45 am]

BILLING CODE 8025-01-P